DEPARTMENT OF COMMERCE

National Oceanic and Atmospheric Administration

50 CFR Part 230

[Docket No. 001120325-0325-01: I.D. 110800B]

RIN 0648-A077

Whaling Provisions: Aboriginal Subsistence Whaling Quotas

AGENCY: National Marine Fisheries Service (NMFS), National Oceanic and Atmospheric Administration (NOAA), Commerce.

ACTION: Aboriginal subsistence whaling quota.

SUMMARY: NMFS announces the aboriginal subsistence whaling quota for gray whales, and other limitations deriving from regulations adopted at the 1997 Annual Meeting of the International Whaling Commission (IWC). For 2000, the quota is zero gray whales landed. This quota and other limitations will govern the harvest of gray whales by members of the Makah Indian Tribe (Tribe).

DATES: Effective November 28, 2000.

ADDRESSES: Office of Protected Resources, National Marine Fisheries Service, 1315 East West Highway, Silver Spring, MD 20910.

FOR FURTHER INFORMATION CONTACT: Cathy Campbell, (202) 482-2652.

SUPPLEMENTARY INFORMATION: Aboriginal subsistence whaling in the United States is governed by the Whaling Convention Act (16 U.S.C. 916 et seq.), which requires the Secretary of Commerce to publish, at least annually, aboriginal subsistence whaling quotas and any other limitations on aboriginal subsistence whaling deriving from regulations of the IWC.

At the 1997 Annual Meeting of the IWC, the Commission set quotas for aboriginal subsistence use of gray whales from the Eastern stock in the North Pacific. The gray whale quota was based on a joint request by the Russian Federation and the United States, with documentation of the needs of 2 Native groups, the Chukotka Natives and the Tribe in Washington State.

This action by the IWC thus authorized aboriginal subsistence whaling by the Tribe for gray whales, as discussed in greater detail in the 1999 notification (64 FR 28413). This aboriginal subsistence harvest is conducted in accordance with a cooperative agreement between NOAA and the Makah Tribal Council (Council).

The IWC set a 5-year block quota (1998 through 2002) of 620 gray whales, with an annual cap of 140 animals taken. The IWC regulation does not address the number of allowed strikes. The requested quota and accompanying documentation assumed an average annual harvest of 120 whales by the Chukotka people and an average annual harvest of 4 whales by the Tribe.

The United States and the Russian Federation have concluded an arrangement providing that the Tribe may take no more than five gray whales, and the Russian natives may take no more than 135 gray whales. On June 9, however, the United States Court of Appeals for the Ninth Circuit ruled that the Department of Commerce’s environmental assessment (EA) under the National Environmental Policy Act (NEPA) should have been completed before agreeing to request a gray whale quota from the IWC. The Court ordered the agency to prepare a new EA under circumstances that would ensure an objective evaluation of the environmental consequences of the gray whale harvest.

NOAA has begun preparation of the new EA. In the meantime, NOAA is setting the gray whale quota at zero, pending completion of the NEPA process. NOAA has also rescinded its cooperative agreement with the Council.

November 28, 2000.
Penelope D. Dalton,
Assistant Administrator for Fisheries, National Marine Fisheries Service.

[FR Doc. 00-30650 Filed 11-28-00; 3:53 pm]

BILLING CODE 3510-22-S